POSTAL SERVICE

39 CFR Part 20

International Mailing Services: Price Changes

AGENCY: Postal Service™.

ACTION: Final action.

SUMMARY: On May 28, 2021, the Postal Service published proposed price changes to reflect a notice of price adjustments filed with the Postal Regulatory Commission (PRC). The PRC found that price adjustments contained in the Postal Service's notification may go into effect on August 29, 2021. The Postal Service will revise Notice 123, Price List to reflect the new prices.

DATES: The revisions to Notice 123, Price List, are effective August 29, 2021.

FOR FURTHER INFORMATION CONTACT: Dale Kennedy at 202-268-6592 or Kathy Frigo at 202-268-4178.

SUPPLEMENTARY INFORMATION:

I. Proposed Rule and Response

On May 28, 2021, the Postal Service filed a notice with the PRC in Docket Number R2021-2 of mailing services price adjustments to be effective on August 29, 2021. On June 3, 2021, USPS® published a notification of proposed price changes in the Federal Register entitled “International Mailing Services: Proposed Price Changes” (86 FR 29732). The notification included price changes that the Postal Service would adopt for services covered by Mailing Standards of the United States Postal Service, International Mail Manual (IMM®) and publish in Notice 123, Price List, on Postal Explorer® at pe.usps.com. The Postal Service received no comments.

II. Decision of the Postal Regulatory Commission

As stated in the PRC's Order No. 5937, issued on July 19, 2021, in PRC Docket No. R2021-2, the PRC found that the prices in the Postal Service's notification may go into effect on August 29, 2021. The new prices will accordingly be posted in Notice 123, Price List on Postal Explorer at pe.usps.com.

III. Summary of Changes

First-Class Mail International

The price for a single-piece postcard will be $1.30 worldwide. The First-Class Mail International (FCMI) letter nonmachinable surcharge will increase to $0.30. The FCMI single-piece letter and flat prices will be as follows:

Letters: Weight not over: (oz.) | Letters: Price groups: 1 | Letters: Price groups: 2 | Letters: Price groups: 3-5 | Letters: Price groups: 6-9
1 | $1.30 | $1.30 | $1.30 | $1.30
2 | 1.30 | 1.96 | 2.43 | 2.25
3 | 1.83 | 2.60 | 3.55 | 3.20
3.5 | 2.36 | 3.25 | 4.68 | 4.14

Letters: Weight not over: (oz.) | Letters: Price groups: 1 | Letters: Price groups: 2 | Letters: Price groups: 3-5 | Letters: Price groups: 6-9
1 | $2.60 | $2.60 | $2.60 | $2.60
2 | 2.85 | 3.38 | 3.67 | 3.62
3 | 3.09 | 4.14 | 4.73 | 4.61
4 | 3.31 | 4.92 | 5.81 | 5.62
5 | 3.55 | 5.69 | 6.87 | 6.63
6 | 3.79 | 6.45 | 7.93 | 7.64
7 | 4.03 | 7.23 | 9.00 | 8.64
8 | 4.27 | 7.99 | 10.06 | 9.64
12 | 5.45 | 9.64 | 12.20 | 11.73
15.994 | 6.63 | 11.31 | 14.33 | 13.80

International Extra Services and Fees

The Postal Service price increase for certain market dominant international extra services is as follows:

• Certificate of Mailing

• Registered Mail™

• Return Receipt

• Customs Clearance and Delivery Fee

• International Business Reply™ Mail Service

Certificate of Mailing | Certificate of Mailing: Fee
Individual pieces:
Individual article (PS Form 3817) | $1.65
Duplicate copy of PS Form 3817 or PS Form 3665 (per page) | 1.65
Firm mailing sheet (PS Form 3665), per piece (minimum 3) First-Class Mail International only | 0.47
Bulk quantities: |
For first 1,000 pieces (or fraction thereof) | 9.35
Each additional 1,000 pieces (or fraction thereof) | 1.20
Duplicate copy of PS Form 3606 | 1.65

Registered Mail

Fee: $17.15.

Return Receipt

Fee: $4.75.

Customs Clearance and Delivery

Fee: per piece $7.05.

International Business Reply Service

Fee: Cards $1.75; Envelopes up to 2 ounces $2.25.

New prices will be listed in the updated Notice 123, Price List.

Joshua J. Hofer,
Attorney, Ethics & Legal Compliance.

[FR Doc. 2021-15958 Filed 7-26-21; 8:45 am]

BILLING CODE 7710-12-P